DEPARTMENT OF ENERGY

Federal Energy Regulatory Commission

[Docket Nos. EL03-139-000, EL03-137-000, EL03-138-000, EL03-140-000, EL03-141-000, EL03-142-000, EL03-143-000, EL03-144-000, EL03-145-000, EL03-146-000, EL03-147-000, EL03-148-000, EL03-149-000, EL03-150-000, EL03-151-000, EL03-152-000, EL03-153-000, EL03-154-000, EL03-155-000, EL03-156-000, EL03-157-000, EL03-158-000, EL03-159-000, EL03-160-000, EL03-161-000, EL03-162-000, EL03-163-000, EL03-164-000, EL03-165-000, EL03-166-000, EL03-167-000, EL03-168-000, EL03-169-000, EL03-170-000, EL03-171-000, EL03-172-000, EL03-174-000, EL03-175-000, EL03-176-000, EL03-177-000, EL03-178-000 and EL03-179-000]

American Electric Power Service Corporation, et al.; Notice of Plenary Conference

July 9, 2003.

American Electric Power Service Corporation, Aquila, Inc., Arizona Public Service Company, Automated Power Exchange, Inc., Bonneville Power Administration, California Department of Water Resources, California Power Exchange, Cargill-Alliant, LLC, City of Anaheim, California, City of Azusa, California, City of Glendale, California, City of Pasadena, California, City of Redding, California, City of Riverside, California, Coral Power, LLC, Duke Energy Trading and Marketing Company, Dynegy Power Marketing Inc., Dynegy Power Corp., El Segundo Power, LLC, Long Beach Generation LLC, Cabrillo, Power I LLC, and Cabrillo Power II LLC, Enron Power Marketing, Inc., and Enron Energy Services Inc., P & L Energy, Idaho Power Company, Los Angeles Department of Water and Power, Mirant Americas Energy Marketing, LP, Mirant California, LLC, Mirant Delta, LLC, and Mirant Potrero, LLC, Modesto Irrigation District, Morgan Stanley Capital Group, Northern California Power Agency, Pacific Gas and Electric Company, PacifiCorp, PGE Energy Services, Portland General Electric Company, Powerex Corporation, (f/k/a British Columbia Power Exchange Corp.) Public Service Company of Colorado, Public Service Company of New Mexico, Puget Sound Energy, Inc., Reliant Resources, Inc., Reliant Energy Power Generation, and Reliant Energy Services, Inc., Salt River Project Agricultural, Improvement and Power District San Diego Gas & Electric Company, Sempra Energy Trading Corporation, EL03-173-000, Sierra Pacific Power Company, Southern California Edison Company, TransAlta Energy Marketing (U.S.) Inc., and TransAlta Energy Marketing (California), Inc., Tucson Electric Power Company, Western Area Power Administration, Williams Energy Services Corporation

Take notice that on July 24, 2003, at 10 a.m., the Trial Staff of the Federal Energy Regulatory Commission will convene a plenary conference in the above-referenced case in Hearing Room 1 at the Commission, 888 1st Street, NE., Washington, DC 20426. Trial Staff requests that a representative from all “Identified Entities” named in the Commission's June 25, 2003, Order to Show Cause Concerning Gaming and/or Anomalous Market Behavior, have a representative present at this conference. Trial Staff further requests that any party who intervenes in the instant proceeding similarly have a representative present at this conference. Trial Staff notes at the outset that it will not deem any party (Identified Entity or intervenor) that attends the conference and who wishes to raise a claim of jurisdiction before the Commission as having waived that claim merely by attending the conference.

Trial Staff is convening this conference for several purposes. First, Trial Staff wants to share with all of the parties in the case the approach it intends to take to deal with each individual Identified Entity included within the Commission's order to show cause in this case. Similarly, Trial Staff seeks to insure that all intervenors are afforded the opportunity to play a reasonable role during the course of the case. In that regard, Trial Staff will meet with all intervenors at 2 p.m. on July 24 in Hearing Room 1.

At the conclusion of this notice, Trial Staff sets forth the name of each Identified Entity from the Commission's June 25, 2003 order and has, for the purposes of initial contact, divided those entities among the three Trial Staff attorneys assigned to this case. A number of these Identified Entities have already contacted members of the Trial Staff regarding the procedures Trial Staff is proposing to follow in the instant case. Some of the Identified Entities have sought meetings with the Trial Staff team and some have expressed a willingness to expeditiously resolve their potential liability. To the extent that any Identified Entity has not yet contacted the Trial Staff, they are urged to contact the Trial Staff attorney identified in this Notice prior to the July 24, 2003 plenary conference. Similarly, a point of contact for all intervenors is identified. Trial Staff specifically requests that, at a minimum, all Identified Entities and intervenors provide Trial Staff in advance of the June 24, 2003 conference the name, address, telephone number, and e-mail address of a contact person for the purposes of this case.

Trial Staff is willing to meet with individual Identified Entities prior to the conference, at a break in the conference, or following the conference and the meeting with the intervenors. At this juncture, Trial Staff is not willing to discuss potential jurisdictional issues with individual parties or factual or legal questions more properly addressed in petitions for rehearing and/or clarification of the Commission's June 25, 2003 order. Rather, Trial Staff is interested in determining each Identified Entities' reaction to the calculations submitted by the California Independent System Operation (CAISO) and in determining each Identified Entities' willingness to expeditiously resolve the instant case. At a minimum, each Identified Entity should come to the July 24, 2003 conference with the ability to comment on the CAISO's analysis and on its own willingness to resolve the case.

The following Identified Entities should contact Trial Staff attorney Edith A. Gilmore at (202) 502-8632 or at edith.gilmore@ferc.gov: Aquila, Inc., Arizona Public Service Company, Bonneville Power Administration,California Dep't of Water Resources, Duke Energy Trading & Marketing, El Paso Power Services, Florida Power & Light, Idaho Power Company, Public Service Co. of Colorado, Puget Sound Energy, Reliant Resources, Inc. Sempra Energy Trading Corporation, Sierra Pacific Power Company, Western Area Power Admininstration.

The following Identified Entities should contact Trial Staff attorney Janet K. Jones at (202) 502-8165 or at janet.jones@ferc.gov: American Electric Power Services City of Anaheim, City of Azusa, City of Glendale, City of Pasadena, City of Redding, City of Riverside, Los Angeles Dep't of Water & Power, Mirant Americas Energy Marketing, Morgan Stanley Capital Group, Northern California Power Agency, PacifiCorp, Seattle City Light, Tucson Electric Power, Williams Energy Services Corporation, The following Identified Entities and all interested intervenors should contact Trial, Staff attorney Joel M. Cockrell at (202) 502-8153 or at joel.cockrell@ferc.gov:

Automated Power Exchange, Inc., California Power Exchange Cargill-Alliant, LLC, Coral Power, LLC, Dynegy Power Marketing, Inc., Enron Power Marketing, Inc., Modesto Irrigation District, Pacific Gas & Electric Company, PGE Energy Services, Portland General Electric Company, Powerex Corporation, Public Service Co. of New Mexico, Salt River Project, San Diego Gas & Electric Co., Southern California Edison Co. TransAlta Energy Marketing, Inc.

Magalie R. Salas,
Secretary.

[FR Doc. 03-17877 Filed 7-15-03; 8:45 am]

BILLING CODE 6717-01-P